DEPARTMENT OF HEALTH AND HUMAN SERVICES

Administration on Aging (AoA)

[Program Announcement No. AoA-03-07]

Fiscal Year 2003 Consolidated Program Announcement; Availability of Funds and Notice Regarding Applications

AGENCY: Administration on Aging, HHS.

ACTION: Fiscal Year 2003 AoA Consolidated Program Announcement of availability of funds and request for applications for thirteen (13) priority areas.

SUMMARY: The Administration on Aging announces that under this consolidated program announcement it will hold a competition for grant awards and cooperative agreements. Below is the list of the thirteen priority areas identified by number, letter and name: A separate application must be submitted if application is made for more than one priority area.

AoA-03-07 A: Alzheimer's—National Call Center

AoA plans to fund one (1) cooperative agreement at a federal share of approximately $963,500 per year for a project period up to 3 years. The purpose of this project is to implement and operate a National Alzheimer's Call Center. The Call Center will be a national information, counseling and assistance program coordinated through a national network of community-based organizations that have the capacity to serve persons affected by Alzheimer's Disease.

The award is a cooperative agreement because the Administration on Aging will be substantially involved in the development and execution of the activities of the grantee. The Administration on Aging shall carry out the following activities under this cooperative agreement: collaborate with the National Alzheimer's Call Center in the development, modification and execution of the project work plan; provide technical advice in the development of promotional and technical assistance materials; and provide coordination between the main program grantee and other technical assistance and evaluation components.

AoA-03-07 B: Eldercare Locator Program and the National Aging Information & Referral Support Center

AoA plans to fund one cooperative agreement through this competition. The project will be funded at a federal share of approximately $1,175,000 per year for a project period up to five (5) years.

The AoA will fund the cooperative agreement to continue and explore expansion of the Eldercare Locator, a program that links older persons and their caregivers to Older Americans Act (OAA) programs and services. In addition, the project will continue operation of the National Aging Information & Referral Support Center to provide technical assistance and training to the aging network to improve and enhance OAA information & referral systems.

The award is a cooperative agreement because the Administration on Aging will be substantially involved in the development and execution of the activities of the grantee. The Administration on Aging shall carry out the following activities under this cooperative agreement: collaborate with the Eldercare Locator program and the Support Center in the development, modification and execution of the project work plan; provide technical advice in the development of promotional and technical assistance materials; and provide consultation in identifying emerging aging and information & referral issues to better guide the work of the project.

AoA-03-07 C: Evidence-Based Prevention Program

AoA plans to make grant awards for six (6) to eight (8) Evidence-Based Prevention Program Grants for the Elderly at a federal share of approximately $200,000 to $250,000 per year for a project period up to 3 years. The purpose of the Evidence-Based Prevention Program Grants is to demonstrate how the Aging Services Network, through its Community Aging Services Provider organizations in partnership with other important community organizations, can maximize the health and quality of life for older persons by translating previous research into evidence-based intervention models that prevent or delay the progression of disability and/or disease.

AoA-03-07 D: Evidence-Based Prevention Program for the Elderly—National Resource Center

AoA plans to fund one cooperative agreement through this competition. The project will be funded at a federal share of approximately $500,000 per year for a project period up to three years. This grant will be issued as a cooperative agreement because AoA anticipates having substantial involvement with the recipient during the performance of the funded activities. The involvement may include collaboration, participation, or intervention in the funded activities. The types of activities funded under the cooperative agreement include technical assistance to AoA demonstration grantees in the development of evidence-based disability and disease prevention programs and practices; assistance to additional parts of the aging network in the development of similar programs; development of a comprehensive knowledge base focused on intervention models for the elderly that prevent the progression of disability; identification and/or construction of manuals and resources to help implement related programs; assistance to AoA in developing and hosting a National Conference on Evidence-Based Disability and Disease Prevention for the Elderly and, other related tasks.

AoA-03-07 E: Family Friends

AoA plans to fund one cooperative agreement through this competition. It is anticipated that approximately $980,584 is available as the federal share of the project, per year for a project period up to three (3) years. The award is a cooperative agreement because the Administration on Aging will be substantially involved in the development and execution of the activities of the grantee. The Administration on Aging shall carry out the following activities under this cooperative agreement: collaborate with the Center in the development, modification and execution of the Center work plan, including the Center's plan for evaluating its activities and the local projects; provide technical advice in the development of technical assistance and informational materials; and provide consultation in identifying emerging issues and in developing and maintaining a national network of Family Friends projects. The Center shall carry out the following activities under this cooperative agreement: collaborate with the Administration on Aging in the development, modification, and execution of the Center work plan; assist the Administration on Aging in developing and sustaining the national network of Family Friends projects and in responding to inquiries from the field; and evaluate the impact of Center activities and the local projects.

The applicant must include four major areas that are identified here with recommended funding amounts:

Technical Assistance: $250,000; Model Projects: $500,000; Helping At-Risk Youth: $130,584; Evaluation: $100,000.

The purpose of the grant award is to support a National Center for Family Friends to provide training, technical assistance and guidance to local Family Friends projects; further build and support a national system of Family Friends projects by soliciting and awarding grants through a competition for model projects, support projects that foster innovative approaches/models for expanding the Family Friends program to at-risk youth; conduct a program evaluation; and disseminate information.

AoA-03-07 F: Health Disparities Among Minority Elderly Individuals—Technical Assistance Centers

AoA plans to make approximately five grant awards for new projects through this competition, for a total of $932,598 in FY 2003. Each project should focus on health disparities in one of the following four major racial and ethnic minority groups: African American (1 project @ $149,025); Native American and Alaska Native (1 project @ $129,155); persons of Hispanic origin (up to 2 projects @ $149,025 each); and Asian American and Pacific Islander (1 project up to $356,369). The projects will be funded for a project period up to three (3) years. The grant awards will develop culturally and linguistically front line health promotion and disease prevention strategies in the minority groups. Projects will develop practical, nontraditional, community-based interventions for reaching older individuals who experience barriers to access that can be attributed to language and low literacy as well as other barriers directly related to cultural diversity.

AoA-03-07 G: National Center on Elder Abuse

AoA plans to fund one cooperative agreement at $809,703 per year, for a project period up to three (3) years. The National Center on Elder Abuse (NCEA) will incorporate the latest technology to generate and disseminate knowledge that can build and strengthen elder rights networks and enhance the effectiveness of state and community-based elder abuse prevention and intervention programs. It will serve as a national clearinghouse of information on all forms of elder abuse, including physical, psychological, sexual and financial abuse; neglect and self-neglect. NCEA will tailor its activities and work products to meet the special needs of disadvantaged populations, including limited-English speaking individuals.

The award is a cooperative agreement because the Administration on Aging will be substantially involved in the development and execution of the activities of the grantee. The Administration on Aging shall carry out the following activities under this cooperative agreement: collaborate with the Center in the development, modification and execution of the Center work plan; provide technical advice in the development of elder abuse prevention informational materials; and provide consultation in identifying emerging elder abuse issues and in developing and maintaining a system of state and community-based elder rights networks made up of service providers funded under the Older Americans Act.

AoA-03-07 H: Nutrition, Physical Activity and Aging—National Resource Center

AoA plans to fund one cooperative agreement through this competition. The project will be funded at a federal share of approximately $480,000 per year for a project period up to three (3) years. The purpose of this cooperative agreement is to enhance knowledge about the health promotion/disease prevention aspects of nutrition and physical activity for older adults and thereby increase and improve the delivery of these services to them throughout the aging network.

AoA and the Center will work cooperatively in the development of the Center's plan of work; in the award process and implementation of subcontracts and of physical activity and nutrition mini-grants for USA on the Move: Steps to Healthy Aging; as well as with other Center activities. The AoA will work collaboratively with the Center to develop a system to set priorities for research, materials development, training and technical assistance, and/or dissemination. There will be substantial AoA involvement in determining guidance regarding The Dietary Guidelines, The Dietary Reference Intakes, and implementation of food safety and food service administration. Whenever possible, AoA will share with the Center information about other Federally supported projects and Federal activities relevant to its areas of primary concern.

AoA-03-07 I: Older Indians, Alaska Natives and Native Hawaiians—National Resource Centers

AoA plans to fund two (2) cooperative agreements under this competition. Each Center will be funded at a federal share of approximately $345,000 per year, for a project period up to three (3) years.

The Centers will focus on issues and concerns affecting individuals who are older Indians, Alaska Natives and Native Hawaiians. The primary goal of these Centers is to enhance knowledge about older Native Americans and thereby increase and improve the delivery of services to them. With this goal in mind, the Centers will concentrate on the development and provision of technical information and expertise to Indian tribal organizations, Native American communities, educational institutions including Tribal Colleges and Universities, and professionals and paraprofessionals in the field. Each Center must have a national focus and direct its resources to one or more of the areas of primary concern specified in the full Program Announcement. In addition, each Center must provide short term applied research, education, and dissemination of information and promote the collaboration between Titles VI and III of the OAA, as amended, as well as with other relevant Federal programs.

This award is a cooperative agreement because the Administration on Aging (AoA) will be substantially involved in the development and execution of the activities of the grantees. The AoA and the Centers will work cooperatively in the development of Center agendas and awarding of subcontracts. The AoA will work with the Centers to develop a system to set priorities for research, training and technical assistance, education, and/or dissemination as well as addressing AoA's priority areas. Whenever possible, AoA will share with the Centers information about other federally supported projects and Federal activities relevant to its areas of primary concern.

AoA-03-07 J: Pension Information and Counseling Projects—Regional

AoA plans to fund two (2) regional pension counseling and information grants through this competition. Each regional project will be funded at a federal share of approximately $150,000 per year, for a project period up to three (3) years.

The grant awards are to assist older workers and retirees and their families to maneuver their way through the pension maze. The AoA grants are to develop demonstration projects that will provide counseling and information to better help these individuals understand and enforce their pension rights. The projects should provide outreach, information, counseling, referral, and other assistance regarding pensions and other retirement income benefits from private (pre-, post-, and non-ERISA plans) as well as federal and state government pension systems. The AoA expects these projects to build on the experience of the existing and previously funded projects and demonstrations. Specifically, the AoA expects applicants to propose the implementation and improvement of the most appropriate and effective methods to ensure that Americans eligible for pension and other retirement income benefits have the requisite knowledge, information and counseling to fully exercise their rights and entitlements.

AoA-03-07 K: Pension Technical Assistance Project—National

AoA plans to fund one (1) national technical assistance grant that will strengthen the role of its Pension Counseling and Information Projects and encourage coordination between the projects, State and Area Agencies on Aging and legal services providers for older Americans by providing substantive legal training, technical assistance and programmatic consultation. The project will also design and develop a national Pension Assistance Call Center to provide information and referral services to anyone in the country with pension or retirement income plan questions or problems. The project will be funded at a federal share of approximately $400,000 per year, for a project period up to three (3) years. The technical assistance project will serve two primary functions. First, the project will provide substantive legal training and technical assistance, as well as programmatic consultation to the Pension Counseling and Information Project network, State and Area Agencies on Aging, and legal services providers for older Americans. Through this function, the project will strengthen the presence and effectiveness of the pension counseling network by coordinating and encouraging close cooperation among the Pension Counseling Projects, government pension agencies, private pension professionals and the media. Second, the project will design and develop a comprehensive electronic database of pension and retirement income-related information, government agencies, private professionals and other resources to serve as the underpinning of a national toll-free pension assistance call center. The project will also develop and test an expert system to manage the information call center that operators will use in assisting callers. The project will then test these systems for usability and, in conjunction with AoA, staff, market, and initiate the call center service to Americans with pension or retirement income plan questions or problems.

AoA-03-07 L: Retirement Planning and Assistance for Women

AoA plans to award one cooperative agreement to support a National Resource Center on Women and Retirement. The federal share will be up to $248,376 per year, for a project period up to three (3) years. The Center will incorporate the latest technology to generate and disseminate knowledge in appropriately packaged forms that can assist women, especially low-income women and women of color, to build and strengthen their capacity to plan for their economic security in later life. The Center will serve as a national clearinghouse of tools and information on retirement planning and related financial materials. The Center will tailor its activities and work products to meet the special needs of disadvantaged women and their families, including limited-English speaking individuals.

The award will be made in the form of a cooperative agreement because the Administration on Aging will be substantially involved in the development and execution of the activities conducted by the grantee. Accordingly, under this cooperative agreement, AoA shall carry out the following activities: collaborate with the Center on the development, modification and execution of the Center work plan; provide technical advice on the identification, adaptation and development of financial and retirement planning informational materials for women; and consult on the identification of emerging issues, potential strategies and their impact nationwide.

AoA-03-07 M: Senior Legal Services—Enhancement of Access

AoA plans to fund approximately three (3) to four (4) new statewide grants through this competition. Each project will be funded at a federal share of approximately $100,000-$150,000 per year, for a project period up to three (3) years, the amount roughly proportionate to the state's senior population and the availability of federal funds.

These grants provide states with a cost-effective way to increase the number of seniors who receive legal assistance. Building upon methods previously tested under Title IV of the OAA, such as statewide legal hot lines, self-help offices, interactive websites, and collaborative efforts, these grants can enhance access to legal services for underserved seniors.

Legislative authority: The Older Americans Act, Public Law 106-501 (Catalog of Federal Domestic Assistance 93.048, Title IV and Title II, Discretionary Projects).

Eligibility for grant awards and other requirements: Public and/or nonprofit agencies and organizations, including faith-based and community-based organizations, are eligible to apply for the following priority areas:

AoA-03-07 B: Eldercare Locator Program and the National Aging Information & Referral Support Center

AoA-03-07 L: Retirement Planning and Assistance for Women

AoA-03-07 M: Senior Legal Services—Enhancement of Access

State or area agencies on aging, and nonprofit organizations, including community-based and faith-based organizations, are eligible to apply for the following priority areas:

AoA-03-07 J: Pension Information and Counseling Projects—Regional

AoA-03-07 K: Pension Technical Assistance Project—National

Public and/or nonprofit agencies and national organizations, including faith-based organizations, are eligible to apply for the following priority area:

AoA-03-07 F: Health Disparities Among Minority Elderly Individuals—Technical Assistance Centers

Public and/or nonprofit agencies, organizations, or institutions, including faith-based organizations, are eligible to apply for the following priority areas:

AoA-03-07 E: Family Friends

AoA-03-07 G: National Center on Elder Abuse

Local public and/or nonprofit agencies and organizations, including faith-based and community-based organizations are eligible to apply for the following priority area:

AoA-03-07 C: Evidence-Based Prevention Program

Nonprofit agencies and organizations, including faith-based and community-based organizations, are eligible to apply for the following priority area:

AoA-03-07 A: Alzheimer's—National Call Center

National nonprofit organizations, including faith-based organizations, are eligible to apply for the following priority area:

AoA-03-07 D: Evidence-Based Prevention Program for the Elderly—National Resource Center

Institutions of higher education are eligible to apply for the following priority areas:

AoA-03-07 H: Nutrition, Physical Activity and Aging—National Resource Center

AoA-03-07 I: Older Indians, Alaska Natives and Native Hawaiians—National Resource Centers

Special Qualifications Required

AoA-03-07 A: Alzheimer's—National Call Center

Applicants must involve community-based organizations in the operation of the National Alzheimer's Call Center to ensure local, on-the-ground capacity to respond to emergency and on-going needs of Alzheimer's patients, their families, and informal caregivers.

AoA-03-07 B: Eldercare Locator Program and the National Aging Information & Referral Support Center

Applicants must demonstrate current knowledge of the Eldercare Locator, extensive knowledge in providing information & assistance to older persons and their caregivers, extensive knowledge of the Aging Services Network, and experience in providing training and technical assistance to that Network.

AoA-03-07 C: Evidence-Based Prevention Program

Applicants must be local public and/or nonprofit service providers that primarily provide home and community-based social services to older persons and are funded at least in part through the Older Americans Act.

AoA-03-07 D: Evidence-Based Prevention Programs for the Elderly—National Resource Center

Applicants must demonstrate expertise in working with Community Aging Service Programs to develop and implement evidence-based prevention programs for the elderly. The organization should have direct experience in: applied research and evaluation with older adults; providing training and technical assistance at all levels of the aging network; developing of documents to support aspects of disease and disability prevention for older adults within the context of the aging network and health care systems; compiling, analyzing, synthesizing, and disseminating information on disease and disability prevention among older adults to a diverse audience, including social and health professionals.

AoA-03-07 E: Family Friends

Applicants must demonstrate experience in providing services to senior volunteers and to children or youth who are disabled or at-risk.

AoA-03-07 G: National Center on Elder Abuse

Applicants must demonstrate a proven track record of expert knowledge concerning the operation and organization of elder abuse programs at national, state, and local levels, as well as the requisite organizational capacity to carry out the activities of the Center on a national scale.

AoA-03-07 H: Nutrition, Physical Activity and Aging—National Resource Center

Applicants must demonstrate a direct experience in conducting applied research on nutrition and physical activity for older adults, developing technical assistance materials for the aging network in these areas, training and technical assistance to all levels of the aging network, and implementing nutrition and physical activity related demonstration programs across the continuum of care.

AoA-03-07 I: Older Indians, Alaska Natives and Native Hawaiians—National Resource Centers

Applicants must have experience conducting research and assessment on the needs of older individuals. Current Resource Centers are also eligible to apply.

AoA-03-07 J: Pension Information and Counseling Projects—Regional

Applicants must have a proven record of providing pension counseling and/or other services directly related to the retirement income security of older individuals. Applicants providing these services to Native Americans are encouraged to apply. While the term “regional” is not specifically defined, it will generally be interpreted to mean two (2) or more states; for applicants proposing a single-state “region” additional justification will be required. Preference in awarding funds will be given to applicants who are experienced in providing statewide or regional pension and retirement income benefits counseling and information services.

AoA-03-07 K: Pension Technical Assistance Project—National

Applicants must have a proven record of providing pension counseling and/or other services directly related to the retirement income security of older individuals. Applicants providing these services to Native Americans are encouraged to apply.

AoA-03-07 L: Retirement Planning and Assistance for Women

To be considered for funding, applicants must demonstrate extensive knowledge and a proven track record of expertise concerning the nature of financial and retirement education, economic security and women, and strategies for communicating complex information to low income women and women of color in a nationwide arena.

AoA-03-07 M: Senior Legal Services—Enhancement of Access

To be considered for funding, applicants must be experienced in providing legal assistance to older persons.

Non-Federal Match

Grantees for all thirteen priority areas are required to cover at least 25% of the total program costs from non-federal cash or in-kind resources. Grantees must contribute at least one (1) dollar in non-federal cash or in-kind resources for every three (3) dollars received in federal funding.

Executive Order 12372 is not applicable to these grant applications.

Screening Criteria

In order for an application to be reviewed, it must meet the following screening requirements:

1. Applications must be postmarked by midnight, August 15, 2003, or hand-delivered by 5:30 p.m. Eastern Time on August 15, 2003, or submitted electronically by midnight, August 15, 2003. Electronic submissions must be sent to http://www.aoa.gov/egrants.

2. The Project Narrative section of the Application must be double-spaced, on single-sided 8½″ x 11″ plain white paper with 1″ margins on both sides, and a font size of not less that 11.

3. The Project Narrative must not exceed 25 pages.

Review of Applications

Applications will be evaluated against the following criteria: Approach, Work Plan and Activities (30 points); Project Outcomes, Evaluation and Dissemination (30 points); Purpose and Need for Assistance (20 points); Level of Effort (20 points).

DATES: The deadline date for the submission of applications for all priority areas is August 15, 2003.

ADDRESSES: Application kits are available by writing to the U.S. Department of Health and Human Services, Administration on Aging, Office of Grants Management, Washington, DC 20201, by calling (202) 357-3440, or online at http://www.aoa.gov/egrants.

Applications may be mailed to the U.S. Department of Health and Human Services, Administration on Aging, Office of Grants Management, Washington, DC 20201, attn: Margaret Tolson. Please identify the application by priority area (e.g.. AoA-03-07 A). Applications may be delivered to the U.S. Department of Health and Human Services, Administration on Aging, Office of Grants Management, One Massachusetts Avenue, NW., Room 4604, Washington, DC 20001, attn: Margaret Tolson (identify priority area).

If you elect to mail or hand deliver your application you must submit one original and two copies of the application; an acknowledgement card will be mailed to applicants. Instructions for electronic mailing of grant applications are available at http://www.aoa.gov/egrants/.

SUPPLEMENTARY INFORMATION: All grant applicants are encouraged to obtain aD-U-N-S number from Dun and Bradstreet. It is a nine-digit identification number, which provides unique identifiers of single business entities. The D-U-N-S number is free and easy to obtain from http://www.dnb.com/US/duns_update/.

FOR FURTHER INFORMATION CONTACT: AoA-03-07 A: Alzheimer's—National Call Center—Lori Stalbaum (202) 357-3452; e-mail Lori.Stalbaum@aoa.gov.

AoA-03-07 B: Eldercare Locator Program and the National Aging Information & Referral Support Center—Sherri Clark (202) 357-3506; e-mail sherri.clark@aoa.gov.

AoA-03-07 C: Evidence-Based Prevention Program—Donald Grantt, (202) 357-3447; e-mail Donald.Grantt@aoa.gov.

AoA-03-07 D: Evidence-Based Prevention Program for the Elderly—National Resource Center—Donald Grantt, (202) 357-3447; e-mail Donald.Grantt@aoa.gov.

AoA-03-07 E: Family Friends—Joyce Hubbard (202) 357-3462; e-mail joyce.hubbard@aoa.gov.

AoA-03-07 F: Health Disparities among Minority Elderly Individuals—Technical Assistance Centers—Dianne Freeman (202) 357-3536; e-mail dianne.freeman@aoa.gov.

AoA-03-07 G: National Center on Elder Abuse—Brandt Chvirko (202) 357-3535; e-mail brandt.chvirko@aoa.gov.

AoA-03-07 H: Nutrition, Physical Activity and Aging—National Resource Center—Jean Lloyd (202) 357-3582; e-mail jean.lloyd@aoa.gov.

AoA-03-07 I: Older Indians, Alaska Natives and Native Hawaiians—National Resource Centers—Margaret Graves (202) 357-3502; e-mail margaret.graves@aoa.gov.

AoA-03-07 J Pension Information and Counseling Projects—Regional—Valerie Soroka (202) 357-3531; e-mail valerie.soroka@aoa.gov.

AoA-03-07 K: Pension Technical Assistance Project—National—Valerie Soroka (202) 357-3531; e-mail valerie.soroka@aoa.gov.

AoA-03-07 L: Retirement Planning and Assistance for Women—Dianne Freeman (202) 357-3536; e-mail dianne.freeman@aoa.gov.

AoA-03-07 M: Senior Legal Services—Enhancement of Access—Valerie Soroka (202) 357-3531; e-mail valerie.soroka@aoa.gov.

Dated: July 10, 2003.
Josefina G. Carbonell,
Assistant Secretary for Aging.

AoA Consolidated Program Announcement
Grant opportunity | Application deadline | Who may apply (In addition, note special qualifications required) | Maximum award | Maximum projected period | Estimated number of awards
A. Alzheimer's—National Call Center (CFDA 93048) | Aug. 15, 2003 | Nonprofit agencies and organizations including faith-based and community-based organizations | $963,500 | 36 months | 1
B. Eldercare Locator Program and the National Aging Information & Referral Support Center (CFDA 93048) | Aug. 15, 2003 | Public and/or nonprofit agencies and organizations, including faith-based and community-based organizations | $1,175,000 | 60 months | 1
C. Evidence-Based Prevention Program (CFDA 93.048) | Aug. 15, 2003 | Local public and/or nonprofit agencies and organizations, including faith-based and community-based organizations | $250,000 | 36 months | 6-8
D. Evidence-Based Prevention Program for the Elderly—National Resource Center (CFDA 93.048) | Aug. 15, 2003 | National nonprofit organizations, including faith-based organizations | $500,000 | 36 months | 1
E. Family Friends (CFDA 93.048) | Aug. 15, 2003 | Public and/or nonprofit agencies and organizations, including faith-based and community-based organizations | $980,584 | 36 months | 1
F. Health Disparities among Minority Elderly Individuals—Technical Assistance Centers (CFDA 93.048) | Aug. 15, 2003 | Public and/or nonprofit agencies and national organizations, including faith-based organizations | $932,598 total; range $129,000-$356,000 | 36 months | 5
G. National Center on Elder Abuse (CFDA 93.048) | Aug. 15, 2003 | Public and/or nonprofit agencies, organizations, or institutions, including faith-based organizations | $809,703 | 36 months | 1
H. Nutrition, Physical Activity and Aging—National Resource Center (CFDA 93.048) | Aug. 15, 2003 | Institutions of Higher Education | $480,000 | 36 months | 1
I. Older Indians, Alaska Natives and Native Hawaiians—National Resource Centers (CFDA 93.048) | Aug. 15, 2003 | Institution of Higher Education | $345,000 | 36 months | 2
J. Pension Information and Counseling Projects—Regional (CFDA 93.048) | Aug. 15, 2003 | State or area agencies on aging, and nonprofit organizations, including community-based and faith-based organizations | $150,000 | 36 months | 2
K. Pension Technical Assistance Project—National (CGDA 93l.048) | Aug. 15, 2003 | State or area agencies on aging, and nonprofit organizations, including community-based and faith-based organizations | $400,000 | 36 months | 1
L. Retirement Planning and Assistance for Women (CFDA 93.048) | Aug. 15, 2003 | Public and/or nonprofit agencies and organizations, including faith-based and community-based organizations | $248,376 | 36 months | 1
M. Senior Legal Services—Enhancement of Access (CFDA 93.048) | Aug. 15, 2003 | Public and/or nonprofit agencies and organizations, including faith-based and community-based organizations | $100,000 to $150,000 | 36 months | 4

[FR Doc. 03-17914 Filed 7-14-03; 8:45 am]

BILLING CODE 4154-01-P